DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Wednesday, October 21, 2015, from 8:30 a.m to 4:40 p.m and Thursday, October 22, 2015, from 8:30 a.m to 4:05 p.m

ADDRESSES: 901 N. Stuart Street, Suite 200, Arlington, VA 22203.

FOR FURTHER INFORMATION CONTACT: Dr. Anne Andrews, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the October 21-22, 2015 meeting is to review new start research and developing projects requesting Strategic Environmental Research and Development Program funds as required by the SERDP Statute, U.S. Code—Title 10, Subtitle A, Part IV, Chapter 172, § 2904. The full agenda follows:

Agenda for October 21, 2015
8:30 a.m | Convene | Dr. Joseph Hughes, Chair.
8:40 a.m | Weapons Systems and Platforms Overview | Dr. Robin Nissan, Weapons Systems and Platforms, Program Manager.
8:50 a.m | 16 WP02-004 (WP-2601): Sustainable, Environmentally Green Polyurethanes for Erosion-Resistant Coatings (FY16 New Start) | Dr. Peter Zarras, NAWCWD, China Lake, CA.
9:35 a.m | 16 WP02-007 (WP-2602): Non-Isocyanate Polyurethane Platform for Sustainable and Advanced Rain Erosion Resistant Coatings (FY16 New Start) | Dr. Vijay Mannari, Eastern Michigan University, Ypsilanti, MI.
10:20 a.m | Break
10:35 a.m | Weapons Systems and Platforms Overview | Dr. Robin Nissan, Weapons Systems and Platforms, Program Manager.
10:45 a.m | 16 WP03-006 (WP-2605): Environmentally Conscious Process Development for the Production of Composite Propellants and Explosives (FY16 New Start) | Dr. Keith Anderson, Resodyn Corporation, Butte, MT.
11:30 a.m | 16 WP03-003 (WP-2631): Safer Resonant Acoustic Manufacturing for High Volume Pyrotechnics (FY16 New Start) | Dr. Eric Miklaszewski, Naval Surface Warfare Center, Crane Division, Crane, IN.
12:15 p.m | Lunch
1:15 p.m | 16 WP03-008 (WP-2632): Manufacture of Ordnance by In-Situ Resonant Acoustic Mixing (FY16 New Start) | Ms. Amy Luebbering, NSWC IHEODTD, Indian Head, MD.
2:00 p.m | Weapons Systems and Platforms Overview | Dr. Robin Nissan, Weapons Systems and Platforms, Program Manager.
2:10 p.m | 16 WP04-003 (WP-2607): Cold Spray Coatings for Cr and Ni Plating Replacement (FY16 New Start) | Mr. Victor Champagne, US Army Research Laboratory, Aberdeen, MD.
2:55 p.m | Break
3:10 p.m | 16 WP04-012 (WP-2608): Novel Atmospheric High Power Impulse Plasma Source for Durable, Field Applicable Coatings (FY16 New Start) | Dr. Vasiliki Poenitzsch, Southwest Research Institute, San Antonio, TX.
3:55 p.m | 16 WP04-013 (WP-2609): Advanced Nanocrystalline Cobalt Alloys and Composites as Alternatives for Chromium and Nickel Plating in Repair Operations (FY16 New Start) | Dr. Jonathan McCrea, Integran Technologies, Inc., Mississauga, ON.
4:40 p.m | Public Discussion/Adjourn for the day
Agenda for October 22, 2015
8:30 a.m | Convene | Dr. Joseph Hughes, Chair.
8:40 a.m | Environmental Restoration Overview | Andrea Leeson, Ph.D., Environmental Restoration, Program Manager.
8:50 a.m | 16 ER02-005 (ER-2624): Development of Toxicity Reference Values (TRVs) for Birds Exposed to PFOS, PFOA and Associated Mixtures of Fluorinated Compounds (FY16 New Start) | Dr. Matt Simcik, University of Minnesota, Minneapolis, MN.
9:35 a.m | 16 ER02-006 (ER-2625): Development of Toxicity Data to Support Toxicity Reference Values for Perfluorinated Compounds (FY16 New Start) | Dr. Michael Quinn, U.S. Army Public Health Command, Aberdeen Proving Ground, MD.
10:20 a.m | Break
10:35 a.m | 16 ER02-010 (ER-2626): Development of Amphibian Poly- and Perfluoroalkyl Substances Toxicity Reference Values for Use in Ecological Risk Assessment at Aqueous Film Forming Foam Sites (FY16 New Start) | Dr. Maria Sepulveda, Purdue University, West Lafayette, IN.
11:20 a.m | 16 ER02-014 (ER-2627): Advancing the Understanding of the Ecological Risk of Per- and Polyfluoroalkyl Substances (FY16 New Start) | Dr. Christopher Salice, Towson University, Towson, MD.
12:05 p.m | Lunch
1:05 p.m | Munitions Response Overview | Dr. Herb Nelson, Munitions Response, Program Manager.
1:20 p.m | 16 MR01-001 (MR-2645): Underwater Munitions Expert System for Remediation Guidance (FY16 New Start) | Dr. Sarah Rennie, Johns Hopkins University, Applied Physics Laboratory.
2:05 p.m | 16 MR01-017 (MR-2646): Advanced Magnetometer System (FY16 New Start) | Dr. Rahul Mhaskar, Geometrics, San Jose, CA.
2:50 p.m | Break
3:05 p.m | Munitions Response Overview | Dr. Herb Nelson, Munitions Response, Program Manager.
3:20 p.m | 16 MR02-001 (MR-2649): Elastic Target Modeling for Physics-Based Automatic Classification (FY16 New Start) | Dr. Lane Owsley, University of Washington, Applied Physics Laboratory, Seattle, WA.
4:05 p.m | Public Discussion/Adjourn

Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/.

Time is allotted at the close of each meeting day for the public to make comments. Oral comments are limited to 5 minutes per person.

Dated: September 25, 2015.
Aaron Siegel,
Alternate OSD Federal Register Liaison Officer, Department of Defense.

[FR Doc. 2015-24789 Filed 9-29-15; 8:45 am]

BILLING CODE 5001-06-P